DEPARTMENT OF THE TREASURY

Office of Foreign Assets Control

31 CFR Part 542

Publication of Syria Web General License 23

AGENCY: Office of Foreign Assets Control, Treasury.

ACTION: Publication of web general license.

SUMMARY: The Department of the Treasury's Office of Foreign Assets Control (OFAC) is publishing one general license (GL) issued pursuant to the Syrian Sanctions Regulations: GL 23, which was previously made available on OFAC's website.

DATES: GL 23 was issued on February 9, 2023 and has an expiration date of August 8, 2023. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On February 9, 2023, OFAC issued GL 23 to authorize certain transactions otherwise prohibited by the Syrian Sanctions Regulations, 31 CFR part 542. The GL was made available on OFAC's website (www.treas.gov/ofac) when it was issued. The GL has an expiration date of August 8, 2023. The text of the GL is provided below.

OFFICE OF FOREIGN ASSETS CONTROL

Syrian Sanctions Regulations

31 CFR Part 542

GENERAL LICENSE NO. 23

Authorizing Transactions Related to Earthquake Relief Efforts in Syria

(a) Except as provided in paragraph (b) of this general license, all transactions related to earthquake relief efforts in Syria that would otherwise be prohibited by the Syrian Sanctions Regulations, 31 CFR part 542 (SySR), are authorized through 12:01 p.m. eastern daylight time, August 8, 2023.

Note 1 to paragraph (a). The authorization in paragraph (a) of this general license includes the processing or transfer of funds on behalf of third-country persons to or from Syria in support of the transactions authorized by paragraph (a) of this general license. U.S. financial institutions and U.S. registered money transmitters may rely on the originator of a funds transfer with regard to compliance with paragraph (a) of this general license, provided that the financial institution does not know or have reason to know that the funds transfer is not in compliance with paragraph (a) of this general license.

(b) This general license does not authorize:

(1) Any transactions prohibited by section 542.208 of the SySR (prohibiting importation into the United States of petroleum or petroleum products of Syrian origin); or

(2) Any transactions involving any person whose property and interests in property are blocked pursuant to the SySR, other than persons who meet the definition of the term Government of Syria, as defined in section 542.305(a) of the SySR, unless separately authorized.

Note 2 to General License 23. Nothing in this general license relieves any person from compliance with any other Federal laws or requirements of other Federal agencies.

Andrea M. Gacki,

Director, Office of Foreign Assets Control.

Dated: February 9, 2023.

Andrea M. Gacki,
Director, Office of Foreign Assets Control.

[FR Doc. 2023-05783 Filed 3-23-23; 8:45 am]

BILLING CODE 4810-AL-P